DEPARTMENT OF TRANSPORTATION

Federal Railroad Administration

[Docket Number FRA-2021-0069]

Petition for Waiver of Compliance

Under part 211 of title 49 Code of Federal Regulations (CFR), this document provides the public notice that on May 28, 2021, Dallas Area Rapid Transit (DART) petitioned the Federal Railroad Administration (FRA) for a waiver of compliance from certain provisions of the Federal railroad safety regulations contained at 49 CFR parts 229 (Railroad Locomotive Safety Standards), 231 (Railroad Safety Appliance Standards), and 238 (Passenger Equipment Safety Standards), and an exemption from certain requirements of chapter 203, title 49 of the United States Code (U.S.C.). FRA assigned the petition Docket Number FRA-2021-0069.

Specifically, DART requests special approval for certain design elements of its Stadler FLIRT 3 diesel multiple unit (DMU) railcars that do not comply with FRA regulations. DART seeks relief from 49 CFR 229.47(b), Emergency brake valve; 231.14(a)(2), (b)-(d), (f), and (g), Passenger-train cars without end platforms; and 238.305(c)(5), Interior calendar day mechanical inspection of passenger cars. DART also requests that FRA exercise its authority under 49 U.S.C. 20306 to exempt the DMUs from the requirements of 49 U.S.C. 20302, which, in part, mandates that railroad vehicles be equipped with (1) couplers that couple automatically by impact, and are capable of being uncoupled, without individuals having to go between the ends of equipment; and (2) secure sill steps and grab irons or handholds on the vehicle's ends and sides for greater security to individuals coupling and uncoupling the vehicle. See 49 U.S.C. 20302(a)(1)(A), (B), and (a)(2).

Section 20306 authorizes FRA to exempt rail equipment from the requirements of 49 U.S.C. chapter 203, including Section 20302, when those requirements “preclude the development or implementation of more efficient railroad transportation equipment or other transportation innovations under existing law.” Section 20306 requires FRA to base any such exemption on either (1) findings developed at a hearing, or (2) an agreement between labor and the developer of the equipment.

FRA has previously held Section 20306 hearings for equipment substantially similar to the FLIRT 3 DMUs.¹ The equipment was also proposed to be operated in substantially similar operating environments to that which DART proposes in this docket.² As a result, FRA finds that holding a public hearing under Section 20306 in response to DART's current exemption request is not necessary and FRA intends to rely on the findings from these previous hearings when considering DART's current exemption request.

¹ See FRA Docket Nos. FRA-2019-0066 (Amtrak) and FRA-2019-0068 (Texas Central Railroad); see also 85 FR 69700 (Nov. 3, 2020). Both FRA dockets are available for review on www.regulations.gov.

² Id.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation (DOT), 1200 New Jersey Ave. SE, W12-140, Washington, DC 20590.

Communications received by September 7, 2021 will be considered by FRA before final action is taken. Comments received after that date will be considered if practicable. Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2021-15603 Filed 7-21-21; 8:45 am]

BILLING CODE 4910-06-P